DEPARTMENT OF JUSTICE

Notice of Lodging of Consent Decree Under the Comprehensive Environmental Response, Compensation, and Liability Act

Under 42 U.S.C. 9622(d)(2) and 28 CFR 50.7, notice is hereby given that on April 12, 2006, a proposed Consent Decree in United States and the State of Wisconsin v. NCR Corporation and Sonoco-U.S. Mills, Inc., Civil Action No. 06-CV-00484 (E.D. Wis.) was lodged with the United States District Court for the Eastern District of Wisconsin.

The Consent Decree concerns polychlorinated biphenyl (“PCB”) contamination in a particular area of the Lower Fox River and Green Bay Site. Under the proposed settlement set forth in the Consent Decree, NCR Corporation and Sonoco-U.S. Mills, Inc. (the “Defendants”) would implement an initial phase of the cleanup remedy in that area, which has been designated as the Phase 1 Project Area. The Phase 1 Project Area is just downstream from the De Pere dam, along the west bank of the Lower Fox River, near the City of Green Bay, Wisconsin. The Consent Decree would require the Defendants to dredge PCB-contaiminated sediments from the Phase 1 Project Area and to dispose of the dredged sediments in an upland landfill, at an estimated cost of $30 million. The settlement would not resolve the Defendants' potential liability for additional response activities or response costs relating to the Phase 1 Project Area or other areas of the Site.

The Department of Justice will receive comments relating to the Consent Decree for a period of thirty (30) days from the date of this publication. Comments should be addressed to the Assistant Attorney General, Environment and Natural Resources Division, P.O. Box 7611, U.S. Department of Justice, Washington, DC 20044-7611, and should refer to United States and the State of Wisconsin v. NCR Corporation and Sonoco-U.S. Mills, Inc., Civil Action No. 06-CV-00484 (E.D. Wis.) and D.J. Ref. No. 90-11-2-1045/5.

The Consent Decree may be examined at: (1) The offices of the United States Attorney, 517 E. Wisconsin Avenue, Room 530, Milwaukee, Wisconsin; and (2) the offices of the U.S. Environmental Protection Agency, Region 5, 77 West Jackson Boulevard, 14th Floor, Chicago, Illinois. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $36.00 (144 pages at 25 cents per page reproduction cost) payable to the U.S. Treasury. For a copy of the Consent Decree alone, without appendices, please enclose a check in the amount of $19.25 (77 pages at 25 cents per page reproduction cost) payable to the U.S. Treasury.

William D. Brighton,
Assistant Chief, Environmental Enforcement Section, Environment and Natural Resources Division.

[FR Doc. 06-3939 Filed 4-25-06; 8:45 am]

BILLING CODE 4410-15-M